NUCLEAR REGULATORY COMMISSION

[Docket No. 40-8964]

Notice of Availability of Environmental Assessment and Finding of No Significant Impact for the Addition of the SR-2 Satellite Facility To Power Resources, Inc's Smith Ranch-Highlands Uranium Project, Converse County, WY

AGENCY: U.S. Nuclear Regulatory Commission.

ACTION: Notice of availability.

FOR FURTHER INFORMATION CONTACT: Paul Michalak, Decommissioning and Uranium Recovery Licensing Directorate, Division of Waste Management and Environmental Protection, Office of Federal and State Materials and Environmental Management Programs, U.S. Nuclear Regulatory Commission, Washington, DC 20555. Telephone: (301) 415-7612; Fax number: (301) 415-5955; E-mail: pxm2@nrc.gov.

SUPPLEMENTARY INFORMATION:

I. Introduction

Power Resources, Inc. (PRI) currently holds Source Material License SUA-1548 for the Smith Ranch-Highland Uranium Project (SR-HUP) site, located in Converse County, Wyoming. Source Material License SUA-1548 permits PRI to conduct In Situ Leach (ISL) uranium recovery operations at the SR-HUP site. As specified in Source Material License SUA-1548, License Condition 10.5.1 requires the following:

The licensee is prohibited from constructing new Satellite Facilities or waste water evaporation ponds prior to NRC review and approval of designs and specifications.

By letter dated October 11, 2006, PRI submitted a request to construct ISL Satellite SR-2 (SR-2) at the SR-HUP site. In this proposed action, an ISL satellite facility is a structure (i.e., building and associated equipment) where the ion exchange portion of the ISL processing circuit is conducted. ISL Satellite SR-2 would service Mine Units 9, 10, 11, and 12, located near the southwest corner of Smith Ranch. It is estimated that construction of SR-2 and associated access road would impact approximately 1.5 acres of land.

The NRC staff has prepared an Environmental Assessment (EA) in support of its review of PRI's request in accordance with the requirements of 10 CFR Part 51. Based on the EA, the NRC has concluded that a Finding of No Significant Impact (FONSI) is appropriate.

II. EA Summary

Background

PRI's SR-HUP is a commercial ISL uranium mining facility located in the South Powder River Basin, Converse County, Wyoming. The main office and Central Processing Plant complex is located at Smith Ranch, about 17 air miles (22 road miles) (27 air/35 road kilometers (km)) northeast of Glenrock, Wyoming, and 23 air miles (25 road miles) (37 air/40 road km) northwest of Douglas, Wyoming. NRC issued PRI's current NRC license for the SR-HUP (Source Material License SUA-1548) on August 18, 2003, as part of a license renewal process. Commercial ISL uranium production began at the Highland site in January 1988, and at the Smith Ranch site in June 1997.

PRI current operations at the SR-HUP include an ISL Central Processing Plant (CPP) and an ISL Satellite facility (SR-1) at the Smith Ranch site and two ISL Satellite facilities (Satellite Nos. 2 and 3) at the Highland site.

Under SUA-1548, PRI is authorized, through its ISL process, to produce up to 5.5 million pounds (2.5 million kilograms) per year of tri-uranium octoxide (U3O8), also known as “yellowcake.” PRI's current annual production is less than half of this limit.

Review Scope

The NRC staff has reviewed PRI's request in accordance with the NRC's environmental protection regulations in 10 CFR Part 51. Those regulations implement section 102(2) of the National Environmental Policy Act of 1969, as amended. The EA provides the results of the NRC staff's environmental review. The NRC staff's radiation safety review of PRI's request will be documented separately in a Safety Evaluation Report.

The NRC staff has prepared the EA in accordance with NRC requirements in 10 CFR 51.21 and 51.30, and with the associated guidance in NRC report NUREG-1748, “Environmental Review Guidance for Licensing Actions Associated with Nuclear Material Safety and Safeguards Programs.” In 40 CFR 1508.9, the Council on Environmental Quality defines an EA as a concise public document that briefly provides sufficient evidence and analysis for determining whether to prepare an environmental impact statement (EIS) or a FONSI.

The NRC staff's review addressed the environmental impacts of PRI's currently-approved mining operations at the SR-HUP only insofar as such operations would be modified by the proposed addition of SR-2.

Proposed Action

PRI is proposing to construct and operate SR-2 at the SR-HUP site. Construction of SR-2 would entail the clearing of about 1.5 acres of land due to satellite building and access road construction. The SR-2 facility would be the source of the barren lixiviant pumped into the uranium ore zone and the recipient of the pregnant lixiviant recovered from Mine Units 9, 10, 11, and 12. Upon recovery from the subsurface, the pregnant lixiviant would be pumped to a series of IX columns located within SR-2, where uranium from the lixiviant would be extracted from the solution via adsorption onto the ion exchange (IX) resin in the columns. Following IX extraction of the uranium, the resin would be removed from the tanks and transported to the Smith Ranch CPP for further processing (i.e., elution, precipitation, drying into a U3O8 powder, and packing into 55-gallon drums). As part of supporting the ISL operation at future Mine Units 9, 10, 11, and 12, activities at SR-2 would include lixiviant and waste water storage, ion exchange, resin transfer, reverse osmosis operations associated with ground water restoration, and deep well injection of production and restoration effluent wastes. Operation period for SR-2 and Mine Units 9, 10, 11, and 12, is estimated to be approximately nine years.

Purpose and Need for the Proposed Action

Construction of a second satellite facility at the Smith Ranch site would enable PRI to conduct IX exchange activities in close proximity to future Mine Units 9, 10, 11, and 12, all of which are located in the southwest portion of Smith Ranch, approximately 4.5 miles southwest of the closest processing facility (Smith Ranch CPP). This would also allow PRI to continue to meet the current and future needs of its customers for U3O8, a product that would eventually be used in fuel for commercially-operated nuclear power reactors.

Alternatives to the Proposed Action

No Action Alternative

Under the “no action” alternative, PRI would continue to conduct ISL uranium recovery operations at existing satellite facilities within the permit boundary of the SR-HUP, but it would not be authorized to build and operate SR-2.

Other Alternatives

In the southern Powder River Basin, where the SR-HUP facility is located, uranium ore has been mined via open pits and underground mining in the past. This activity occurred from 1970 to 1984 at the Exxon Highland facility, which is adjacent to the eastern edge of the SR-HUP permit area, and from the mid-1970s to 1986 at Union Pacific Resources' Bear Creek site (now owned by Anadarko Petroleum), which is approximately 15 miles (24 km) northeast of the SR-HUP permit area.

The environmental impacts associated with the recovery and processing of uranium ore obtained via open pit or underground mining are generally recognized as being considerably greater than those associated with ISL uranium recovery. Underground mining would produce ore that is crushed and ground in a conventional uranium mill. Uranium within the crushed material would be extracted through leaching. Conventional uranium mining and milling produces considerable volumes of waste (e.g., slag, mill tailings, etc.) which must be disposed. In the southern Powder River Basin, where the SR-HUP facility is located, uranium was historically mined via open pits and subsurface mine shafts during the 1970s and 1980s. At SR-HUP, construction of the Bill Smith mine shaft was initiated in September 1972, and completed in early 1977. However, due to porous sands and heaving shale zones in the Fort Union formation, conventional subsurface mining was terminated in June 1978. Open pit uranium mining occurred from 1970 to 1984 at the Exxon Highland facility, which is adjacent to the eastern edge of the SR-HUP permit area (approximately 15 miles northeast of SR-2). Although the potential for future conventional mining exists, two factors make conventional mining in the vicinity of the SR-HUP unlikely: ISL operations are approximately two-to-three times more cost effective than open pit mining/conventional milling operations; and virtually all the South Powder River Basin uranium ore deposits are amenable to ISL development. Therefore, although both open pit and underground mining of uranium has occurred near SR-2, these alternatives were not considered further in this analysis.

Environmental Impacts

No-Action Alternative

Under the no-action alternative, PRI would not be authorized to operate a satellite ISL facility in the southwestern portion of SR-HUP. PRI would continue to operate its other satellite facilities within the SR-HUP permit area. The SR-2 area would remain open to its current uses: livestock grazing and wildlife use.

Proposed Action

The addition of SR-2 to the SR-HUP would add approximately 10 to 12 employees to the SR-HUP work force. With such a small increase in the work force, socioeconomic impacts to local housing, schools, health and social services, transportation, and other support facilities are negligible. Additionally, given the remote rural location of SR-HUP, no impacts related to environmental justice issues were identified.

The major potential environmental impacts associated with construction and operation of SR-2 include the disturbance of about 1.5 acres of land due to satellite building construction and operation and support road construction.

The primary impact on land use will be the temporary loss (approximately nine years) of about 1.5 acres from livestock use. These effects will be limited, temporary, and reversible through returning the land to its former grazing use following completion of post-recovery surface reclamation. The temporary alteration of an approximately 1.5 acre area is not considered to constitute a significant adverse impact to either ecological systems or wildlife.

To the extent possible, PRI will use existing access roads in the area; however, it is expected that, as part of the SR-2 construction, PRI will need to construct an access road and widen existing roads. Ephemeral drainages may be affected by this road construction, as well as by the construction of the SR-2 satellite building. When designing and constructing new roads, PRI will consider weather, elevation contours, land rights, cultural resources, and drainages. When constructing new roads, PRI will make efforts to cross ephemeral drainages or channels at right angles to enhance erosion protection measures. However, as it may not always be feasible or warranted to construct roads or crossings at right angles or along elevation contours, PRI will consider and implement erosion measures appropriate for the situation.

Air quality will be impacted by the release of diesel emissions from construction equipment and from fugitive dust from construction activities and vehicle traffic. Diesel emissions would be minor and of short duration, and would be readily dispersed in the atmosphere. Fugitive dust generated from construction activity, as well as vehicle traffic on unpaved roads, would be localized and of short duration. Localized areas affected by site operations would be reclaimed, topsoiled, and re-seeded.

Operation of SR-2 would involve the transportation of uranium-charged resin beads from the satellite facility to the Smith Ranch CPP, and the transportation of the stripped resin beads back to the satellite facility. Expected truck traffic between SR-2 and the Smith Ranch CPP would initially be about one truck a day, with a decrease in traffic, as the well fields are mined out. It is not expected that the additional traffic would result in an increased accident rate for the stretch of Ross Road between the SR-2 access road and the Smith Ranch CPP. However, in the case of an accident involving a shipment of uranium-loaded resin, the environmental impacts would be expected to be small. Overturning of a tanker truck carrying the loaded resin could result in the release of some resin and residual water. The resin beads, which would be deposited on the ground a short distance from the truck, would retain the uranium, absent a strong brine to strip the resin. PRI would collect the resin and any contaminated soils and dispose of them appropriately (e.g., in a licensed facility). All disturbed areas would then be reclaimed in accordance with the applicable NRC and State regulations. Airborne release of uranium would not occur since the uranium would remain fixed to the beads.

The primary source of radiological impact to the environment from site operations is gaseous radon-222, which is released from the satellite facility and from the wellfields. In a worst case scenario that considered the cumulative radiological impacts for the entire SR-HUP operation including SR-2, the two nearest SR-2 residents, Sunquest Ranch, and the Vollman Ranch, are estimated to receive a peak maximum yearly dose of 17.5 and 13.2 mrem/yr, respectively. However, it is very unlikely that these peak doses would be reached due to the modeling methodology and input data conservatism. Additionally, the airborne sampling program at PRI has been used and would continue to be used to verify the off site dose to the nearest resident and the general population. NRC staff evaluated the model results and has determined that estimated dose to the nearest resident and members of the public meet the requirements of 10 CFR 20.1301 (i.e., 100 mrem/yr).

In terms of waste disposal, PRI is required, under License Condition 9.6 of SUA-1548, to dispose of 11e.(2) byproduct materials generated by project operations at a licensed byproduct waste disposal site. Currently, PRI disposes of its radioactively-contaminated solid wastes at Pathfinder Mines Corporation's Shirley Basin uranium mill site in eastern Wyoming. PRI has submitted a Class I Underground Injection Well application with the Wyoming Department of Environmental Quality (WDEQ) Underground Injection Control (UIC) Program for liquid waste disposal. Wastewater disposal associated with PRI's SR-2 operations is not expected to affect local stock and domestic wells as these wells are completed in stratigraphic horizons far above the zones planned for wastewater disposal.

Conclusion

The NRC has reviewed the environmental impacts of the proposed action in accordance with the requirements of 10 CFR Part 51. The NRC staff has determined that the construction and operation of SR-2 would not significantly affect the quality of the human environment. Therefore, an EIS is not warranted for the proposed action, and pursuant to 10 CFR 51.31, a FONSI is appropriate.

Agencies and Persons Consulted

The NRC staff consulted with other Federal and State agencies regarding the proposed action. These consultations were intended to afford these agencies the opportunity to comment on the proposed action, and to ensure that the requirements of Section 106 of the National Historic Preservation Act (NHPA) and Section 7 of the Endangered Species Act (ESA) were met with respect to the proposed action.

The WDEQ administers and implements the State rules and regulations for ISL related activities. PRI possesses a current WDEQ mining permit for its commercial operations. By letter dated September 13, 2007, the NRC staff provided a draft copy of the SR-2 EA to the WDEQ for its review and comment. By correspondence dated November 29, 2007, the WDEQ indicated it had no comments on the EA (WDEQ 2007).

By letter dated June 26, 2007, with follow-up correspondence on September 19, 2007, NRC staff requested information from the U.S. Fish and Wildlife Service, Mountain-Prairie Region (USFWS/MPR) regarding endangered or threatened species or critical habitat in the SR-2 area. No response was received. In absence of a response, NRC staff identified a USFWS/MPR Web site (dated December 2006) which listed, by county, endangered and threatened species in Wyoming. Utilizing the Converse County, Wyoming list, NRC staff has concluded that there are no endangered or threatened species, either plant or animal, nor is there critical habitat, in SR-2.

Pursuant to the requirements of Section 106 of the NHPA, the NRC staff consulted with the Wyoming State Historic Preservation Office (WSHPO). By letter dated June 14, 2007, the NRC staff requested information from the WSHPO regarding cultural and historic properties that may be affected by SR-2. Further correspondence documenting Section 106 consultations was sent to WSHPO on December 4, 2007. By return letter dated December 12, 2007, the WSHPO provided its concurrence that no historic properties would be adversely affected by the proposed action.

By letters dated July 20, 2007, the NRC staff initiated a Section 106 of the NHPA consultation with numerous Native American cultural and tribal/business representatives located in Oklahoma, Wyoming, North Dakota, South Dakota, Montana, and New Mexico. The consultation requested information regarding historical sites or cultural resources within the southwest area of SR-HUP (i.e., SR-2 and Mine Units 9, 10, 11, and 12), including any specific knowledge of any sites that are believed to have traditional religious and cultural significance.

The NRC has received responses from two Native American tribes: Cheyenne River Sioux Tribe (dated August 20, 2007) and Standing Rock Sioux Tribe (dated September 6, 2007). Following telephone calls to both parties, NRC staff forwarded supplemental information to the Cheyenne River Sioux Tribe (dated September 21, 2007) and Standing Rock Sioux Tribe (dated October 3, 2007) indicating that the proposed action would not impact Class III Cultural Resource inventoried sites deemed eligible for inclusion to the NRHP. The supplemental information also included planned mitigation measures (i.e., buffer zones) to protect sensitive cultural resource sites. NRC staff has conducted multiple follow-up calls to both parties. No further comments have been received.

III. Finding of No Significant Impact

On the basis of the EA, the NRC staff has concluded that there are no significant environmental impacts from the addition of the SR-2 to the SR-HUP operational area for the purpose of conducting satellite IX processing of uranium-bearing solution. Therefore, the NRC staff has determined not to prepare an EIS.

IV. Further Information

Documents related to this action, including the application for amendment and supporting documentation, will be available electronically at the NRC's Electronic Reading Room at: http://www.NRC.gov/reading-rm/adams.html. From this site, you can access the NRC's Agencywide Document Access and Management System (ADAMS), which provides text and image files of NRC's public documents. The ADAMS accession numbers for the documents related to this notice are:

Document date | Description | ADAMS accession No.
10/11/06 | PRI's request to construct ISL Satellite SR-2 | ML062930232
12/28/07 | PRI's supplemental information and responses to NRC staff request for additional information | ML070100517
7/30/07 |  | ML072210887
3/17/07 | PRI's supplemental information concerning determination of radiation dose from SR-HUP | ML071380284
4/16/07 |  | ML071100064
5/4/07 |  | ML071510592
11/29/07 | WDEQ comments on pre-decisional draft EA | ML073450518
12/12/07 | WSHPO concurrence on NRC staff determination of no adverse affect | ML073540744
12/26/07 | NRC staff final EA for addition of the ISL Satellite SR-2 | ML073460771

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O-1F21, One White Flint North, 11555 Rockville Pike, Rockville, MD 20852. The PDR reproduction contractor will copy documents for a fee.

Dated at Rockville, Maryland this 27th day of December 2007.
For the Nuclear Regulatory Commission.
Keith I. McConnell,
Deputy Director, Decommissioning and Uranium Recovery, Licensing Directorate, Division of Waste Management and Environmental Protection, Office of Federal and State Materials and Environmental Management Programs.

[FR Doc. E8-101 Filed 1-7-08; 8:45 am]

BILLING CODE 7590-01-P